DEPARTMENT OF EDUCATION

Privacy Act of 1974, as Amended; Computer Matching Program

AGENCY: Department of Education.

ACTION: Notice.

SUMMARY: Pursuant to the Privacy Act of 1974, as amended (Privacy Act) (5 U.S.C. 552a), the Office of Management and Budget (OMB) Final Guidance Interpreting the Provisions of Public Law 100-503, the Computer Matching and Privacy Protection Act of 1988, 54 FR 25818 (June 19, 1989), and OMB Circular A-130, Appendix I, notice is hereby given of the renewal of the computer matching program between the U.S. Department of Education (ED) (the recipient agency) and the U.S. Department of Veterans Affairs (VA) (the source agency). After the ED and VA Data Integrity Boards approve a new computer matching agreement (CMA), the computer matching program will begin on the effective date as specified in the CMA and as indicated in paragraph 5 of this notice.

In accordance with the Privacy Act and applicable OMB guidance, the following information is provided:

1. Names of Participating Agencies

The U.S. Department of Education (ED) and the U.S. Department of Veterans Affairs (VA).

2. Purpose of the Match

The purpose of this matching program between ED and VA is to verify the veteran's status of applicants for financial assistance under Title IV of the Higher Education Act of 1965, as amended, (HEA), who claim to be veterans.

The Secretary of Education is authorized by the HEA to administer the Title IV programs and to enforce the terms and conditions of the HEA.

Section 480(c)(1) of the HEA defines the term “veteran” to mean “any individual who (A) has engaged in the active duty in the United States Army, Navy, Air Force, Marines, or Coast Guard; and (B) was released under a condition other than dishonorable.” (20 U.S.C. 1087vv(c)(1)). Under section 480(d)(1)(D) of the HEA, an applicant who is a veteran (as defined in section 480(c)(1)) is considered an independent student for purposes of Title IV, HEA program assistance eligibility, and therefore does not have to provide parental income and asset information to apply for Title IV, HEA program assistance. (20 U.S.C. 1087vv(d)(1)(D)).

3. Authority for Conducting the Matching Program

ED is authorized to participate in the matching program under sections 480(c)(1) and 480(d)(1)(D) of the HEA (20 U.S.C. 1087vv(c)(1) and (d)(1)(D)). VA is authorized to participate in the matching program under 38 U.S.C. 523.

4. Categories of Records and Individuals Covered by the Match

ED will provide the Social Security number and other identifying information of each applicant who indicates veteran status. This information will be disclosed from the Federal Student Aid Application File system of records (18-11-01), which was most recently published in the Federal Register on December 29, 2009 (74 FR 68802-68808). ED will disclose this information to VA under routine use No. 14. ED data will be matched against data in the Veterans and Beneficiaries Identification and Records Location Subsystem—VA (38VA21) system of records, under routine use No. 21, as added to that system of records by a notice published in the Federal Register on June 4, 2001 (66 FR 30049-50).

5. Effective Dates of the Matching Program

The matching program will be effective on the last of the following dates: (1) June 24, 2011, the day after the expiration of the current computer matching agreement; (2) 30 days after notice of the matching program described in the CMA has been published in the Federal Register; or (3) 40 days after a report concerning the matching program has been transmitted to OMB and transmitted to Congress along with a copy of the CMA, unless OMB waives 10 days of this 40-day period for compelling reasons shown, in which case 30 days after transmission of the report to OMB and Congress. The matching program will continue for 18 months after the effective date of the CMA and may be extended for an additional 12 months thereafter, if the conditions specified in 5 U.S.C. 552a(o)(2)(D) have been met.

6. Address for Receipt of Public Comments or Inquiries

Individuals wishing to comment on this matching program or obtain additional information about the program, including requesting a copy of the CMA between ED and VA, should contact Mr. Leroy Everett, Management and Program Analyst, U.S. Department of Education, Federal Student Aid, Union Center Plaza, 830 First Street, NE., Washington, DC 20202. Telephone: (202) 377-3265. If you use a telecommunications device for the deaf (TDD), call the Federal Relay Service (FRS), toll free, at 1-800-877-8339.

Individuals with disabilities can obtain this document in an alternative format (e.g., braille, large print, audiotape or computer diskette) on request to the contact person listed in the preceding paragraph.

Electronic Access to the Document

The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Note: The official version of this document is the document published in the Federal Register. Free Internet access to the official edition of the Federal Register and Code of Federal Regulations is available on GPO access at: http://www.gpoaccess.gov/nara/index.html.

Dated: May 25, 2011.
James Manning,
Chief of Staff, Federal Student Aid.

[FR Doc. 2011-13414 Filed 5-26-11; 11:15 am]

BILLING CODE 4000-01-P